NATIONAL SCIENCE FOUNDATION

Advisory Committee for Computer and Information Science and Engineering; Cancellation of Meeting

SUMMARY: As a result of the impact of the recent government shutdown, the National Science Foundation is issuing this notice to cancel the October 31 to November 1, 2013 Advisory Committee for Computer and Information Science and Engineering meeting. The public notice for this committee was published in the Federal Register on October 4, 2013 (FR Doc. 2013-24277, page 61870-61871).

FOR FURTHER INFORMATION CONTACT: Carmen Whitson, National Science Foundation, 4201 Wilson Boulevard, Arlington, VA 22230, 703/292-8900.

Dated: October 23, 2013.
Susanne Bolton,
Committee Management Officer.

[FR Doc. 2013-25302 Filed 10-25-13; 8:45 am]

BILLING CODE 7555-01-P